NATIONAL AERONAUTICS AND SPACE ADMINISTRATION

[Notice (02-111)]

Government-Owned Inventions, Available for Licensing

ACTION: Notice of availability of inventions for licensing.

SUMMARY: The invention listed below is assigned to the National Aeronautics and Space Administration, have been filed in the United States Patent and Trademark Office, and are available for licensing.

DATES: September 27, 2002.

FOR FURTHER INFORMATION CONTACT: John Kusmiss, Patent Counsel, NASA Management Office-JPL, 4800 Oak Grove Drive, Mail Stop 180801, Pasadena, CA 91109; telephone (818) 354-7770.

NASA Case No. NPO-21221-1: An Interferometric Apparatus For Ultra-High Precision Displacement Measurement;

NASA Case No. NPO-30322-1: Extremely Efficient, Miniaturized, Long Lived Alpha-Voltaic Power Source Using Liquid Gallium As The Energy Conversion Medium;

NASA Case No. NPO-30232-1: Strongly-Refractive One-Dimensional Photonic Crystal Prisms;

NASA Case No. DRC-099-037: Force Measuring C-Clamp;

NASA Case No. DRC-001-049: Adaptive Lossless Data Compression;

NASA Case No. DRC-001-009: Airforce Shaped Flow Angle Probe;

NASA Case No. NPO-19855-1: CARBON DIOXIDE ABSORPTION HEAT PUMP;

NASA Case No. NPO-20148-2: Protective Fullerene (C60) Packaging System For Microelectromechanical Systems Applications.

Dated: September 20, 2002.
Robert M. Stephens,
Deputy General Counsel.

[FR Doc. 02-24522 Filed 9-26-02; 8:45 am]

BILLING CODE 7510-01-P